Title 3—

The President

Memorandum of April 7, 2010

Delegation of a Reporting Authority

Memorandum for the Secretary of State

By the authority vested in me as President by the Constitution and the laws of the United States, including section 301 of title 3, United States Code, I hereby delegate to you the functions and authority conferred upon the President by section 301 of the Enhanced Partnership with Pakistan Act of 2009, Public Law 111-73, to make the specified report to the Congress.

You are authorized and directed to notify the appropriate congressional committees and publish this memorandum in the Federal Register.

THE WHITE HOUSE,

WASHINGTON, April 7, 2010

[FR Doc. 2010-8789

Filed 4-14-10; 8:45 am]

Billing code 4710-10-P